ENVIRONMENTAL PROTECTION AGENCY

[FRL-7078-4]

Request for Nominations to the National Advisory Council for Environmental Policy and Technology (NACEPT)

AGENCY: Environmental Protection Agency (EPA).

ACTION: Notice of request for nominations.

SUMMARY: The U.S. Environmental Protection Agency (EPA) invites nominations to fill vacancies on its National Advisory Council for Environmental Policy and Technology (NACEPT). The Agency seeks qualified senior-level decision makers from diverse sectors throughout the United States to be considered for appointments.

DATES: EPA expects to make new appointments by the end of the calendar year and encourages nomination submissions by Friday, November 16, 2001.

ADDRESSES: Submit nominations to: Mr. Gordon Schisler, Deputy Director, Office of Cooperative Environmental Management, U.S. Environmental Protection Agency (1601A), 1200 Pennsylvania Avenue, NW., Washington, DC 20460.

SUPPLEMENTARY INFORMATION: NACEPT is a federal advisory committee under the Federal Advisory Committee Act, Public Law 92463. NACEPT provides advice and recommendations to the Administrator and other EPA officials on a broad range of domestic and international environmental policy issues.

The Administrator of EPA has asked NACEPT to act as a visionary group by periodically identifying emerging environmental trends and issues that could impact EPA's ability to protect public health and the environment. EPA seeks new members with broad experience in environmental technology, futures planning, strategic visioning and long-range planning. In addition, NACEPT members may be asked to advise the Administrator on other environmental policy priorities as needed.

NACEPT consists of a representative cross-section of EPA's partners and principle constituents who provide advice and recommendations on policy issues and serve as a sounding board for new strategies that the Agency is developing.

Maintaining a balance and diversity of experience, knowledge, and judgment is an important consideration in the selection of members. Potential candidates should possess the following qualifications:

Occupy a senior position within their organization

Broad experience outside of their current position

Experience dealing with public policy issues

Membership in broad-based networks

Extensive experience in the environmental field

Recognized expert in the subject matter to be addressed by NACEPT

EPA is seeking nominees for representation from all sectors, especially, state, local and tribal agencies, industry, academia, environmental justice organizations, grassroots organizations, and NGOs.

Nominations for membership must include a resume and short biography describing the educational and professional qualifications of the nominee and the nominee's current business address and daytime telephone number.

FOR FURTHER INFORMATION CONTACT: Mr. Peter G. Redmond, Designated Federal Officer for NACEPT, U.S. Environmental Protection Agency (1601A), 1200 Pennsylvania Avenue, NW., Washington, DC 20460; telephone (202) 564-1292, email: redmond.peter@epa.gov.

Dated: October 4, 2001.
Peter G. Redmond,
Designated Federal Officer.

[FR Doc. 01-25586 Filed 10-10-01; 8:45 am]

BILLING CODE 6560-50-P